DEPARTMENT OF AGRICULTURE

Forest Service

Angeles National Forest, CA, Tehachapi Renewable Transmission Project

AGENCY: Forest Service, USDA.

ACTION: Notice of intent to prepare a joint environmental impact statement/report.

SUMMARY: The USDA Forest Service, together with the California Public Utilities Commission (CPUC), will prepare a joint Environmental Impact Statement (EIS) and Environmental Impact Report (EIR) in response to applications received from Southern California Edison for construction of a series of transmission system improvements to deliver electricity from new wind energy projects in eastern Kern County. The proposed project would be located in Kern, Los Angeles, and San Bernardino counties. The purpose of the project is to provide the electrical facilities necessary to integrate levels of new wind generation in the Tehachapi Wind Resource Area, and accommodate solar and geothermal projects currently being planned or expected in the future. It would also improve the reliability of the transmission grid in the Antelope Valley and address existing constraints in the transmission system south of the Lugo Substation in Hesperia, California. The Forest Service is the lead Federal agency for the preparation of this EIS/EIR in compliance with the National Environmental Policy Act (NEPA) and all other applicable federal laws, executive orders, regulations, and direction. The CPUC is the lead State of California agency for the preparation of the EIS/EIR in compliance with the California Environmental Quality Act (CEQA), California Public Resource Code Division 13, and all other applicable state laws and regulations. Both agencies have determined an EIS/EIR is needed to effectively analyze the proposal and evaluate impacts.

The proposed project involves several types of transmission upgrades, including: (1) Constructing new 500-kV transmission lines; (2) constructing o new single-circuit 220-kV transmission lines; (3) rebuilding existing 220-kV lines to 500-V standards; (4) rebuilding existing single-circuit transmission lines to double-circuit transmission lines; (5) relocating several existing 66-kV subtransmission lines; (6) constructing a new 500-kV substation; and (7) upgrading five existing substations. Approximately 46 miles of the project would be located in a 200- to 400-foot right-of-way on National Forest System land (managed by the Angeles National Forest) and approximately 3 miles would require expanded right-of-way within the Angeles National Forest. The USDA Forest Service and the CPUC invite written comments on the scope of this proposed project. In addition, the agencies give notice of this analysis so that interested and affected individuals are aware of how they may participate and contribute to the final decision.

DATES: Comments concerning the scope of the analysis must be received by October 1, 2007. Nine public scoping meetings are planned to provide information about the proposed project and to allow people to comment on the proposed project. The draft EIS/EIR is expected to be published in July 2008 and the final EIS/EIR is expected in December 2008.

ADDRESSES: To request a copy of the draft or final EIS/EIR and/or to send written comments, please write to the Angeles National Forest and/or California Public Utilities Commission, c/o Aspen Environmental Group, 30423 Canwood Street, Suite 215, Agoura Hills, CA 91301.

E-mail communications are also welcome; however, please include your name and a return address in the e-mail message. E-mail messages should be sent to TRTP@aspeneg.com. Information about this application and the environmental review process will be posted on the Internet at: Ftp://ftp.cpuc.ca.gov/gopher-data/environ/tehachapi_renewables/TRTP.htm. This site will be used to post all public documents during the environmental review process and to announce upcoming public meetings. See SUPPLMENTARY INFORMATION for dates and addresses of future public meetings.

FOR FURTHER INFORMATION CONTACT: For additional information related to the project on National Forest System land, contact George Farra, Project Manager, Forest Service, Angeles National Forest, 701 N. Santa Anita Ave., Arcadia, CA 91006, phone: (626) 574-5301. For additional information related to the project on non-National Forest System land, contact John Boccio, California Public Utilities Commission, 505 Van Ness Avenue, San Francisco, CA 94102; phone: (415) 703-2641. Project information can also be requested by leaving a voice message or sending a fax to the Project Information Hotline at (888) 331-9897.

SUPPLEMENTARY INFORMATION:

Proposed Action

Southern California Edison would construct, use, and maintain a series of new and upgraded high-voltage electric transmission lines and substations to deliver electricity generated from new wind energy projects in eastern Kern County, California. The proposed transmission system upgrades are seperated into eight distinct segments. The proposed projects's major components include the following, by segment:

• Segment 4: Construct a new ~16-mile single-circuit 500-kV transmission line from the new Whirlwind Substation to the existing Antelope Substation. The existing right-of-way would be expanded by 200 feet and construct two new parallel ~4-mile single-circuit 220-kV transmission lines from the proposed Cottonwind Substation (not part of this project) to the new Whirlwind Substation. The transmission line would be initially energized at 220 kV with the intent of energizing the system to 500 kV in the future as more wind projects are developed.

• Segment 5: Replace two single-circuit 220-kV transmission lines (Antelope-Vincent and Antelope-Mesa) with a new ~18-mile single-circuit 500-kV transmission line in existing ROW between Antelope Substation and Vincent Substation.

• Segment 6: Replace 27 miles of the Antelope-Mesa 220-kV transmission line and 5 miles of the Rio Hondo-Vincent No. 2 with a single-circuit 500-kV transmission line between Vincent Substation and the southern Angeles National Forest boundary.

• Segment 7: Replace ~16 miles of the Antelope-Mesa 220-kV transmission line with a single-circuit 500-kV transmission line from the southern boundary of the Angeles National Forest to the Mesa Substation.

• Segment 8: Replace ~33 miles of 220-kV transmission line from the San Gabriel Junction (2 miles east of Mesa Substation) to the existing Mira Loma Substation. Relocate 66-kV subtransmission lines in the Mesa and Chino Areas within existing or public right-of-way. Additionally, ~45 existing double-circuit 66-kV subtransmission lines in the Mesa and Chino Areas would be removed/relocated within existing or public right-of-way or undergrounded.

• Segment 9: Construct new 500/220-kV Whirlwind Substation adjacent to Path 26 and upgrade the Antelope Substation to include new 500-kV facilities. Expand and upgrade 500-kV facilities at Vincent Substation. Install reactive compensation equipment at Vincent Substation and Antelope Substation. Upgrade the Gould Substation, Mesa Substation, and Mira Loma Substation within the existing fence line.

• Segment 10: Construct a new ~17-mile single-circuit 500-kV transmission line in a new 330-foot-wide corridor from the approved WindHub Substation to the new Whirlwind Substation.

• Segment 11: Replace ~19 miles of single-circuit 220-kV transmission line with a single-circuit 500-kV transmission line from Vincent Substation to Gould Substation. Install ~18 miles of 220-kV circuit on the vacant side of existing double-circuit 220-kV lattice steel towers (now carrying the Eagle Rock-Mesa 220-kV transmission line) between Gould Substation and Mesa Substation.

Construction activities associated with the proposed action would include upgrading 5 existing substations, construction of 1 new substation, installation of approximately 851 new towers, repairing existing access and spur roads along with the temporary use and construction of spur roads, and the temporary use of approximately 141 new pulling locations and 103 new splicing locations. Only segments 6 and 11 are located on National Forest System lands.

Purpose and Need for Action

The purpose for this action is to provide the electrical facilities necessary to integrate levels of new wind generation in excess of 700 MW and up to approximately 4,500 MW in the Tehachapi Wind Resource Area, and accommodate solar and geothermal projects currently being planned or expected in the future. The project will also address the reliability needs of the CAISO-controlled grid due to projected load growth in the Antelope Valley and the South of Lugo transmission constraints.

Background

Southern California Edison has proposed the construction of a 220/500-kV transmission system that would include a series of new and upgraded high-voltage electric transmission lines and substations to deliver electricity from new wind energy projects in eastern Kern County, California. The project would provide the electrical facilities necessary to integrate levels of new wind generation in excess of 700 MW and up to approximately 4,500 MW in the Tehachapi Wind Resource Area.

Under Sections 210 and 212 of the Federal Power Act (16 U.S.C. 824 (i) and (k)) and Sections 3.2 and 5.7 of the California Independent System Operator's Tariff, Southern California Edison is obligated to interconnect and integrate this wind energy project into its system. In addition, the 2001 National Energy Policy goals are to increase domestic energy supplies, modernize and improve our nation's energy infrastructure, and improve the reliability of the delivery of energy from its sources to points of use.

Executive Order 13212 encourages increased production and transmission of energy in a safe and environmentally sound manner. According to Executive Order 13212, for energy-related projects, agencies shall expedite their review of permits or take other actions as necessary to accelerate the completion of such projects. The agencies shall take such actions to the extent permitted by law and regulations, and where appropriate. Based on the 2005 Angeles National Forest Land and Resource Management Plan, the proposed routes are within designated utility corridors.

Possible Alternatives

Presently, the USDA Forest Service and the CPUC have identified preliminary action alternatives for consideration in the environmental analysis. The alternatives currently under consideration (besides the proposed action) are:

• The No-Action Alternative, under which the proposed transmission line would not be constructed and no expansion activities would occur.

• The Non-National Forest System Land Alternative that would avoid proposed activities on National Forest System lands. This alternative would be developed during the environmental review process.

• Alternate routing between Windhub and Whirlwind Substations (Segment 10).

Additional alternatives will be developed, as needed, during the environmental review process. The final alternatives analyzed in detail will depend on the issues raised during public scoping and further investigation of the feasibility of alternatives.

Lead and Cooperating Agencies

The USDA Forest Service and the CPUC will be joint lead agencies in accordance with 40 CFR 1501.5(b), and are responsible for the preparation of the EIS/EIR. The Forest Service will serve as the lead agency under NEPA. The CPUC will serve as the lead agency under CEQA in accordance with California Code of Regulations, Title 14, Chapter 3, Article 4, § 15050.

Responsible Official

The Forest Service responsible official for the preparation of the EIS/EIR is Jody Noiron, Forest Supervisor, Angeles National Forest, 701 N. Santa Anita Avenue, Arcadia, CA 91006.

Nature of Decision To Be Made

The Forest Supervisor for the Angeles National Forest will decide whether to authorize a 50-year term Special Use Permit for construction, use, and maintenance of 500-kV transmission lines and a new 220-kV circuit. The authorization will include ancillary improvements on National Forest System lands needed to maintain this system (e.g., towers, roads, communication equipment, helicopter landing sites). The Forest Supervisor will only make a decision regarding impacts on National Forest System lands.

Scoping Process

Public participation will be especially important at several stages during the analysis. The lead agencies will be seeking information, comments, and assistance from Federal, State, local agencies, and other individuals and organizations that may be interested in or affected by the proposed project. This input will be used in preparation of the draft EIS/EIR.

Nine scoping meetings are proposed to provide information about the proposed project to the public and to allow people to comment on the proposed project. The scoping meetings will be held on the following dates, times, and locations:

1. September 6, 2007, 6:30 p.m.; La Serna High School, Cafeteria, 15301 Youngwood Drive, Whittier, CA 90605; 562-698-8121.

2. September 10, 2007, 2:30 p.m. and 6:30 p.m.; Palmdale Cultural Center, 38350 Sierra Highway, Palmdale, CA 93550; 661-267-5656.

3. September 11, 6:30 p.m.; Kern County Library—Wanda Kirk Branch, 3611 Rosamond Blvd., Rosamond, CA 93561; 661-256-3236.

4. September 12, 6:30 p.m.; Duarte Community Center, 1600 Huntington Drive, Duarte, CA 91010; 626-303-8429.

5. September 13, 2007, 6:30 p.m.; Garvey Community Center, 9108 Garvey Avenue, Rosemead, CA 91770; 323-720-5213.

6. September 19, 2007, 6:30 p.m.; Altadena Community Center, 730 E. Altadena Drive, Altadena, CA 91001; (626) 398-6174.

7. September 20, 2007, 2:30 p.m. and 6:30 p.m.; Chino Hills Council Chambers, 2001 Grand Avenue, Chino Hills, CA 91709; 909-930-8495.

Preliminary Issues

A number of potential impacts were identified in the Proponent's Environmental Assessment Tehachapi Renewable Transmission Project issued by Southern California Edison on June 29, 2007. The following preliminary issues were identified in this report related to the proposed project's potential effects on the environment: Visual resources; agriculture; air quality; biological, cultural, and geological resources; hazards and hazardous materials; hydrology and water quality; land use and planning; mineral resources; noise; population and housing; public services and utilities; recreation; traffic and transportation; and paleontological resources. Other issues identified are impacts to future forest management projects (e.g., fuel hazard reduction projects and fire fighting strategies).

Permits or Licenses Required

A 50-year term special use permit for the construction, maintenance, and use of the transmission line would be authorized to Southern California Edison by the Forest Supervisor for the Angeles National Forest for Segments 6 and 11, and a Certificate of Public Convenience and Necessity would be issued by the California Public Utilities Commission as part of this decision. Additional permits that may be required of Southern California Edison to construct the proposed project could include: A Permit to Operate issued by the South Coast Air Quality Management District, a National Pollutant Discharge Elimination System General Construction Permit issued by California's Regional Water Quality Control Board, a Section 404 Permit (per Section 404 of the Clean Water Act) issued by the U.S. Army Corps of Engineers, and a Streambed Alteration Agreement ( per Section 1601 of the California Fish and Game Code) issued by the California Department of Fish and Game.

Comment Requested

This notice of intent initiates the scoping process that guides the development of the EIS/EIR. The Forest Service is seeking public and agency comment on the proposed project to identify major issues to be analyzed in depth and assistance in identifying potential alternatives to be evaluated. Comments received on this notice, including the names and addresses of those who comment, will be considered as part of the public record on this proposed project, and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality. Where the request is denied, the agency will return the submission and notify the requester that the comments may be resubmitted, without names and addresses, within a specified number of days.

Early Notice of Importance of Public Participation in Subsequent Environmental Review: A draft EIS/EIR will be prepared for comment. The comment period on the draft EIS/EIR will be 45 days from the date the Environmental Protection Agency publishes the notice of availability in the Federal Register.

The Forest Service believes, at this early stage, that it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft environmental EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it is meaningful to consider and respond to comments in the final EIS/EIR.

To assist the Forest Service in identifying and considering issues and concerns on the proposed project, comments on the draft EIS/EIR should be as specific as possible. It is also helpful if comments refer to specific pages or chapters of the draft statement. Comments may also address the adequacy of the draft EIS/EIR or the merits of the alternatives formulated and discussed in the statement. Reviewers may wish to refer to the Council on Environmental Quality Regulations for implementing the procedural provisions of NEPA at 40 CFR 1503.3 in addressing these points.

(Authority: 40 CFR 1501.7 and 1508.22; Forest Service Handbook 1909.15, Section 21)

Dated: August 23, 2007.
Jody Noiron,
Forest Supervisor.

[FR Doc. E7-17168 Filed 9-6-07; 8:45 am]

BILLING CODE 3410-11-P